NATIONAL SCIENCE FOUNDATION

Sunshine Act meetings

The National Science Board (NSB) hereby gives notice of scheduled meetings for the transaction of NSB business pursuant to the National Science Foundation Act and the Government in the Sunshine Act.

TIME AND DATE: Wednesday, February 25, 2026, from 11:35 a.m.-4:20 p.m. ET.

PLACE: The meetings will be held at 1155 16th Street NW, Washington, DC 20036, and by videoconference. Open portions of the meeting can be viewed on YouTube. The link is available from the NSB Events and Meetings page on the NSB website. https://www.nsf.gov/nsb.

STATUS: Some portions of the meeting will be open and some closed as listed in the detailed description below.

MATTERS TO BE CONSIDERED:

Wednesday, February 25, 2026

Plenary Board Meeting

Open Session: 11:35 a.m.-1:00 p.m.

• Briefing and Discussion of New NSF Management Structure

• NSF Merit Review Reform

Plenary Board Meeting

Open Session: 2:00-3:30 p.m.

• Chair's Remarks

• Approval of Open Minutes—July 2025

• NSB Merit Review Report

• Appointment of NSB Elections Committee

• Indicators 2026 update

• Business Group Update

• Committee on Oversight Report

Plenary Board Meeting

Closed Session: 3:30-3:50 p.m.

• Chair's Remarks

• Approval of Closed Minutes—July 2025

• A&F Committee Report out

Plenary Board Meeting

Executive Closed Session: 4:00-4:20 p.m.

• Chair's Opening Remarks

• Approval of Executive Plenary Closed Minutes—July 2025

• NSB NOMS Update

Meeting Adjourns: 4:20 p.m.

PORTIONS OPEN TO THE PUBLIC:

Wednesday, February 25, 2026

11:35 a.m.-1:00 p.m. Plenary open

2:00-3:30 p.m. Plenary open

PORTIONS CLOSED TO THE PUBLIC:

Wednesday, February 25, 2026

3:30-3:50 p.m. Plenary closed

4:00-4:20 p.m. Plenary Executive closed

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from the times noticed by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Ann E. Bushmiller,
Senior Legal Counsel to the National Science Board.

[FR Doc. 2026-03467 Filed 2-19-26; 11:15 am]

BILLING CODE 7555-01-P